DEPARTMENT OF HOMELAND SECURITY

Coast Guard

[Docket No. USCG-2013-0240]

Draft Revisions to the Marine Safety Manual, Volume III, Chapters 20-26

AGENCY: Coast Guard, DHS.

ACTION: Notice of availability with request for comments

SUMMARY: The Coast Guard announces the availability of a draft update to the Marine Safety Manual (MSM), Volume III, Marine Industry Personnel, and the corresponding Commandant Change Notice that highlights the changes made to that manual. MSM Volume III provides information and interpretations on international conventions and U.S. statutory and regulatory issues relating to marine industry personnel. This Commandant Change Notice discusses the substantive changes to chapters 20 through 26 of MSM Volume III. The Coast Guard seeks and will consider comments on this draft before issuing a final version of this manual.

DATES: Comments must be received by the Coast Guard on or before October 8, 2013.

ADDRESSES: To view the documents mentioned in this notice, go to http://www.regulations.gov and use “USCG-2013-0240” as your search term. Locate this notice in the search results, and use the filters on the left side of the page to locate specific documents by type. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

FOR FURTHER INFORMATION CONTACT: If you have questions on this notice, call or email Lieutenant Corydon Heard, Office of Commercial Vessel Compliance, U.S. Coast Guard; telephone 202-372-1208, email Corydon.F.Heard@uscg.mil. If you have questions on viewing material in the docket, call Docket Operations at 202-366-9826.

SUPPLEMENTARY INFORMATION:

Viewing the Commandant Change Notice and Draft of MSM Volume III, Chapters 20-26: To view this Commandant Change notice and Draft MSM Volume III, chapters 20-26, go to http://www.regulations.gov, use “USCG-2013-0240” as your search term, and follow the instructions in the ADDRESSES section above.

Background and Purpose

Volume III of the Marine Safety Manual (MSM) provides information and interpretations on international conventions and U.S. statutory and regulatory issues relating to marine industry personnel. The last revisions to Volume III of the MSM were released on May 27, 1999. This notice updates portions of chapters 20 through 26.

Specifically, substantive changes include: (1) Updated provisions for vessel manning, including guidance for the issuing of safe manning documents; (2) clarifying roles, responsibilities, and facilitation of communications with the appropriate offices at Coast Guard Headquarters in alignment with Deputy Commandant for Operations Organization 3.0; and (3) revised discussion on the impact of multiple international standards, including the Officer's Competency Certificates Convention (OCCC) 1936, the International Convention for Safety of Life at Sea (SOLAS), the Global Maritime Distress and Safety System (GMDSS), and the Principles of Minimum Safe Manning (IMO Resolution A.1047(27)). Additionally, this draft clarifies the applicability of tonnage measurement systems to U.S. flag vessels, and it also includes changes resulting from the consolidation of merchant mariner qualification credentials, including the removal of references to the operated uninspected towing vessel endorsement.

Future changes to the MSM may be released if the Coast Guard promulgates new regulations that may affect the guidance and information contained within the MSM.

This notice is issued under authority of 5 U.S.C. 552(a) and Department of Homeland Security Delegation No. 0170.1(1).

Dated: August 5, 2013.
Jonathan C. Burton,
Captain, U.S. Coast Guard, Director, Inspections and Compliance.

[FR Doc. 2013-19359 Filed 8-8-13; 8:45 am]

BILLING CODE 9110-04-P